NATIONAL SCIENCE FOUNDATION

Sunshine Act Meeting Notice

Agency Holding Meeting: National Science Foundation, National Science Board, Task Force on National Workforce Policies for Science & Engineering.

Date and Time: December 17, 2002, 1:30 p.m.-2:30 p.m. Open Session.

Place: The National Science Foundation, Stafford One Building, 4201 Wilson Boulevard, Room 120, Arlington, VA 22230.

Status: This meeting will be open to the public.

Matters To Be Considered:

Tuesday, December 17, 2002.

Open Session (1:30 p.m. to 2:30 p.m.)—Discussion of comments on the draft report of the NSB/EHR Task Force on National Workforce Policies for S&E.

FOR FURTHER INFORMATION CONTACT: Gerald Glaser, Executive Officer, NSB, (703) 292-7000, http://www.nsf.gov/nsb.

Gerard Glaser,
Executive Officer.

[FR Doc. 02-31428 Filed 12-10-02; 10:55 am]

BILLING CODE 7555-01-M